DEPARTMENT OF HOUSING AND URBAN DEVELOPMENT

[Docket No. FR-7034-N-61]

30-Day Notice of Proposed Information Collection: Closeout Instructions for Community Development Block Grant Programs (CDBG); OMB Control No: 2506-0193

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: December 3, 2021.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Anna P. Guido, Reports Management Officer, QMAC, Department of Housing and Urban Development, 451 7th Street SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on July 29, 2021 at 86 FR 40867.

A. Overview of Information Collection

Title of Information Collection: Closeout Instructions for Community Development Block Grant Programs (CDBG).

OMB Approval Number: 2506-0193.

Type of Request: Reinstatement with change of a previously approved collection.

Form Number: 7082.

Description of the Need for the Information and Proposed Use: This information collection is being conducted by HUD's Community Planning and Development Office of Block Grant Assistance (CPDOBGA) to assist HUD in determining, as required by Section 104(e) of the Housing and Community Development Act of 1974 (HCDA), and outlined in Subpart I (for States) and Subpart J (for entitlements) of the CDBG regulation, whether Grantees, (Entitlement communities, States and units of general local governments) have carried out eligible activities and its certifications in accordance with the statutory and regulatory requirements governing State CDBG, CDBG-R, Disaster Recovery, Neighborhood Stabilization Program (NSP) 1, NSP2 and NSP 3 grants prior to closing the grant allocation. The submission of the HUD 7082—Funding Approval Form is necessary as the form is the Grant Agreement between the Department of Housing and Urban Development (HUD) and the Grantee and is made pursuant to the authority of the HCDA, as amended, (42 U.S.C. 5301 et seq.). HUD will make the funding assistance as specified to the grantee upon execution of the Agreement. We request the paperwork approval because the funding approval form is a vehicle for standardizing the agreements between HUD and each of its grantees.

Grant Closeout Form
Information collection | Number of respondents | Frequency of response | Responses per annum | Burden hour per response | Annual burden hours | Hourly cost per response | Annual cost
States Total | 182.00 | 1.00 | 182.00 | 3.00 | 546.00 | $41.78 | $22,811.88
Counties in Hawaii Total | 3.00 | 1.00 | 3.00 | 3.00 | 9.00 | 41.78 | 376.02
Entitlement Total | 1,490.00 | 1.00 | 1,490.00 | 3.00 | 4,470.00 | 41.78 | 186,756.60
Non-entitlement Total | 32.00 | 1.00 | 32.00 | 3.00 | 96.00 | 41.78 | 4,010.88
Non-Profits and Quasi-public Total | 20.00 | 1.00 | 20.00 | 3.00 | 60.00 | 41.78 | 2,506.80
Funding Approval Total | 1,727.00 | 1.00 | 1,727.00 | 3.00 | 5,181.00 | 41.78 | 216,462.18

Funding Approval/Agreement 7082 Form
Information collection | Number of respondents | Frequency of response | Responses per annum | Burden hour per response | Annual burden hours | Hourly cost per response | Annual cost
State Total | 132.00 | 1.00 | 132.00 | 0.25 | 33.00 | $41.78 | $1,378.74
Counties in Hawaii Total | 3.00 | 1.00 | 3.00 | 0.25 | 0.75 | 41.78 | 31.33
Entitlement Total | 1,399.00 | 1.00 | 1,399.00 | 0.25 | 349.75 | 41.78 | 14,612.55
Nonentitlement Total | 32.00 | 1.00 | 32.00 | 0.25 | 8.00 | 41.78 | 334.24
Nonentitlement Direct Grantees Total | 32.00 | 1.00 | 32.00 | 0.25 | 8.00 | 41.78 | 334.24
Funding Approval Total | 1,598.00 | 1.00 | 1,598.00 | 0.25 | 399.50 | 41.78 | 16,691.11

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Anna P. Guido,
Department Reports Management Officer, Office of the Chief Information Officer.

[FR Doc. 2021-23984 Filed 11-2-21; 8:45 am]

BILLING CODE 4210-67-P